NATIONAL AERONAUTICS AND SPACE ADMINISTRATION

[Notice: 25-037]

Name of Information Collection: NASA Safety Reporting System (NSRS); Correction

AGENCY: National Aeronautics and Space Administration (NASA).

ACTION: Renewal of information collection, correction.

SUMMARY: NASA, as part of its continuing effort to reduce paperwork and respondent burden, invites the general public and other Federal agencies to take this opportunity to comment on proposed and/or continuing information collections, as required by the Paperwork Reduction Act of 1995 (PRA).

FOR FURTHER INFORMATION CONTACT: NASA PRA Clearance Officer, Stayce Hoult, 256-714-8575 or stayce.d.hoult@nasa.gov.

SUPPLEMENTARY INFORMATION: In the Federal Register of September 10, 2025, in FR Doc. 2025-17399, on page 43645, in the second column, add the NASA Docket number in the ADDRESSES section to read: “NASA-2025-0102”.

Nanette Smith,
Team Lead, NASA Directives and Regulations.

[FR Doc. 2025-17950 Filed 9-16-25; 8:45 am]

BILLING CODE 7510-13-P